DEPARTMENT OF JUSTICE

Notice of Lodging of Consent Decree Under the Clean Air Act

Notice is hereby given that on June 7, 2011, a proposed Consent Decree in United States v. Polar Industries, Inc., Civil Action No. 3:11-cv-00915, was filed with the United States District Court for Connecticut.

In this action, the United States sought penalties and injunctive relief for the Defendant's violations of the Clean Air Act, 42 U.S.C. 7401 et seq., at its foam block manufacturing facility in Prospect, Connecticut. To resolve the United States' claims, the Defendants will pay a penalty of $102,000, and will install air emission controls at its plant to reduce its emissions of Volatile Organic Compounds into the air.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to either: United States v. Industries Inc., Civil Action No. 3:11-cv-00915, or D.J. Ref. 90-5-2-1-09881. The Consent Decree may be examined at the Office of the United States Attorney, District of Connecticut, Connecticut Financial Center, 157 Church St., 23d Floor, New Haven, Connecticut, and at the United States Environmental Protection Agency, 5 Post Office Square, Suite 100, Boston, Massachusetts 02109. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check, payable to the U.S. Treasury, in the amount of $9.50 (25 cents per page reproduction cost), or, if by email or fax, forward a check in the applicable amount to the Consent Decree Library at the stated address.

Maureen Katz,
Assistant Chief, Environmental Enforcement Section, Environment and Natural Resources Division.

[FR Doc. 2011-14914 Filed 6-15-11; 8:45 am]

BILLING CODE 4410-15-P